DEPARTMENT OF EDUCATION

Jacob K. Javits Gifted and Talented Students Education Program

AGENCY: Office of Elementary and Secondary Education, Department of Education.

ACTION: Notice of proposed priority.

SUMMARY: The Assistant Secretary for Elementary and Secondary Education proposes a priority under the Jacob K. Javits Gifted and Talented Students Education Program. The Assistant Secretary may use this priority for competitions in fiscal year (FY) 2008 and later years. We take this action to support the implementation of models with demonstrated effectiveness in identifying and serving gifted and talented students who are economically disadvantaged or limited English proficient, or who have disabilities, and who may not be identified and served through typical strategies for identifying gifted children. We intend the priority to increase the availability of proven approaches for increasing the number of students from underrepresented groups performing at high levels of academic achievement.

DATES: We must receive your comments on or before February 13, 2008.

ADDRESSES: Address all comments about this proposed priority to Teresa Cahalan, U.S. Department of Education, 400 Maryland Avenue, SW., Room 5W218, Washington, DC 20202-6200. If you prefer to send your comments through the Internet, use the following address: jacobk.javits@ed.gov.

You must include the term “Comments on FY 2008 Javits Priority” in the subject line of your electronic message.

FOR FURTHER INFORMATION CONTACT: Teresa Cahalan. Telephone: (202) 401-3947.

If you use a telecommunications device for the deaf (TDD), you may call the Federal Relay Service (FRS) at 1-800-877-8339.

Individuals with disabilities can obtain this document in an alternative format (e.g., Braille, large print, audiotape, or computer diskette) on request to the contact person listed under FOR FURTHER INFORMATION CONTACT.

SUPPLEMENTARY INFORMATION:

Invitation to Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this proposed priority in Room 5W218, 400 Maryland Avenue, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

General

The purpose of the Jacob K. Javits Gifted and Talented Students Education Program is to carry out a coordinated program of scientifically based research, demonstration projects, innovative strategies, and similar activities designed to build and enhance the ability of elementary schools and secondary schools nationwide to meet the special educational needs of gifted and talented students.

Background of the Priority

Consistent with section 5465(a)(2) of the Elementary and Secondary Education Act of 1965, as amended (20 U.S.C. 7253), this proposed priority focuses on the implementation and evaluation of projects that expand interventions that identify and serve gifted and talented students who are economically disadvantaged or limited English proficient, or who have disabilities, and who may not be identified and served through typical strategies for identifying gifted children. Specifically, the priority focuses on the expansion of these projects to multiple settings and for different student populations.

In 2007, 32 percent of all 4th grade public school students scored at or above the proficient level in reading on the National Assessment of Educational Progress, compared to only 17 percent of students who are eligible for free or reduced price lunch under the National School Lunch program (i.e., students who are economically disadvantaged), 13 percent of students with disabilities, and 7 percent of students with limited English proficiency. Students from these three groups are significantly underrepresented at or above proficient levels on the 8th grade reading and 4th and 8th grade mathematics assessments.

Since its creation in 1989, the Jacob K. Javits Gifted and Talented Students Education Program has supported over 125 small-scale model projects and intervention strategies, some of which have produced statistically significant increases in student academic achievement on standardized tests. In order to have a national impact with the limited funds available for new awards under this program, the goal of this priority is to expand upon, field-test, and evaluate research-based interventions that have shown evidence of success in increasing the number of economically disadvantaged, limited English proficient, or disabled students performing at high levels of academic achievement.

Based on our experience with previous grants, we have found that successful projects require demonstrated expertise in the following areas: Education research and program evaluation, one or more of the core academic subject areas (English, reading or language arts, mathematics, science, foreign languages, civics and government, economics, arts, history, and geography), the needs of disadvantaged or other underrepresented students, and gifted and talented education.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) awarding additional points, depending on how well or the extent to which the application meets the competitive preference priority (34 CFR 75.105(c)(2)(i)); or (2) selecting an application that meets the competitive preference priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority

Proposed Priority

Under this proposed priority, grantees must “scale up” and evaluate models designed to increase the number of students from underrepresented groups who, through gifted and talented education programs, perform at high levels of academic achievement.

For this priority, “scaling up” means to expand a program with demonstrated effectiveness at one level (such as a school or other educational setting, student population, grade level, or academic subject area) for use in broader settings or with different populations. With regard to this priority, underrepresented groups refer to the following three groups of students: Economically disadvantaged individuals, individuals with limited English proficiency, and individuals with disabilities.

To meet this priority, applicants must include all of the following in their applications:

(1) Evidence from one or more scientifically based research and evaluation studies indicating that the proposed intervention has raised the achievement of students from one or more underrepresented groups in one or more core subject areas.

(2) Evidence from one or more scientifically based research and evaluation studies that the proposed intervention has resulted in increased numbers of students from underrepresented groups who are prepared to participate in gifted and talented education programs.

(3) Evidence that the applicant has significant expertise on its leadership team in each of the following areas: Research and program evaluation, content knowledge in one or more core academic subject areas, working with underrepresented groups, and gifted and talented education.

(4) A sound plan for implementing the model in multiple settings or with multiple populations.

(5) A research and evaluation plan that employs an experimental or quasi-experimental design to measure the impact of the intervention on the achievement of students who are economically disadvantaged or limited English proficient, or who have disabilities, and on the number of these students who are prepared to participate in gifted and talented education programs.

Note: Evaluation methods using an experimental design are best for determining the effectiveness of interventions. Thus, when feasible, the project must use an experimental design under which participants (e.g., students, teachers, classrooms, or schools) are randomly assigned to participate in the project activities being evaluated or to a control group that does not participate in the project activities being evaluated.

If random assignment is not feasible, the project may use a quasi-experimental design with carefully matched comparison conditions. This alternative design attempts to approximate a randomly assigned control group by matching participants with non-participants having similar pre-intervention characteristics.

Executive Order 12866

This notice of proposed priority has been reviewed in accordance with Executive Order 12866. Under the terms of the order, we have assessed the potential costs and benefits of this regulatory action.

The potential costs associated with the notice of proposed priority are those resulting from statutory requirements and those we have determined as necessary for administering this program effectively and efficiently.

In assessing the potential costs and benefits—both quantitative and qualitative—of this notice of proposed priority, we have determined that the benefits of the proposed priority justify the costs.

We have also determined that this regulatory action does not unduly interfere with State, local, and tribal governments in the exercise of their governmental functions.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.206A Jacob K. Javits Gifted and Talented Students Education Program)

Program Authority: 20 U.S.C. 7253.

Dated: January 9, 2008.
Kerri L. Briggs,
Assistant Secretary for Elementary and Secondary Education.

[FR Doc. E8-450 Filed 1-11-08; 8:45 am]

BILLING CODE 4000-01-P